DEPARTMENT OF COMMERCE

Bureau of Economic Analysis

Agency Information Collection Activities; Submission to the Office of Management and Budget (OMB) for Review and Approval; Comment Request; Services Surveys: BE-30, Quarterly Survey of Ocean Freight Revenues and Foreign Expenses of U.S. Carriers, and the BE-37, Quarterly Survey of U.S. Airline Operators' Foreign Revenues and Expenses

AGENCY: Bureau of Economic Analysis, Department of Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before August 27, 2024.

ADDRESSES: Interested persons are invited to submit written comments to Christopher Stein, Chief, Services Surveys Branch, Bureau of Economic Analysis, by email to christopher.stein@bea.gov or PRAcomments@bea.gov. Please reference OMB Control Number 0608-0011 in the subject line of your comments. Do not submit Confidential Business Information or otherwise sensitive or protected information.

FOR FURTHER INFORMATION CONTACT: Requests for additional information or specific questions related to collection activities should be directed to Christopher Stein, Chief, Services Surveys Branch, Bureau of Economic Analysis; 301-278-9189; or via email at christopher.stein@bea.gov.

SUPPLEMENTARY INFORMATION:

I. Abstract

The Quarterly Survey of Ocean Freight Revenues and Foreign Expenses of U.S. Carriers (BE-30) collects data from U.S. ocean freight carriers (owners and operators) that engaged in the international transportation of freight, cargo, and/or passengers between U.S. and foreign ports or between foreign ports, if total covered revenues or total covered expenses were $500,000 or more in the previous year or are expected to be $500,000 or more during the current year.

The Quarterly Survey of U.S. Airline Operators' Foreign Revenues and Expenses (BE-37) collects data from U.S. airline operators engaged in the international transportation of passengers or of U.S. export freight, or the transportation of passengers or freight between two foreign points, if total covered revenues or total covered expenses were $500,000 or more in the previous year or are expected to be $500,000 or more during the current year.

The data are needed to monitor U.S. trade in transport services, to analyze the impact of these cross-border services on the U.S. and foreign economies, to compile and improve the U.S. economic accounts, to support U.S. commercial policy on trade in transport services, to conduct trade promotion, and to improve the ability of U.S. businesses to identify and evaluate market opportunities. The data are used in estimating the trade in transport services component of the U.S. international transactions accounts (ITAs) and national income and product accounts (NIPAs).

The Bureau of Economic Analysis (BEA) is not proposing any changes to the surveys reporting requirements or to the data items collected on the surveys.

BEA does not plan to change the exemption levels used for the current quarterly surveys. BEA estimates there will be no change in the average number of burden hours per response. The language in the instructions and definitions will be reviewed and adjusted as necessary to clarify survey requirements.

II. Method of Collection

BEA contacts potential respondents by mail at the end of each quarter. Respondents would be required to file the completed BE-30 and BE-37 forms within 30 days after the end of each quarter of the year.

BE-30 reports would be required from each U.S. ocean freight carrier (owners and operators) that engaged in the international transportation of freight, cargo, and/or passengers between U.S. and foreign ports or between foreign ports, whose total covered revenues or total covered expenses were $500,000 or more in the previous year or are expected to be $500,000 or more during the current year.

BE-37 reports would be required from each from U.S. airline operator engaged in the international transportation of passengers or of U.S. export freight, or the transportation of freight or passengers between two foreign points, whose total covered revenues or total covered expenses were $500,000 or more in the previous year or are expected to be $500,000 or more during the current year.

BEA offers its electronic filing option, the eFile system, for use in reporting on Form BE-30 and BE-37 surveys. For more information about eFile, go to www.bea.gov/efile. In addition, BEA posts all its survey forms and reporting instructions on its website, www.bea.gov/ssb. These may be downloaded, completed, printed, and submitted via fax or mail.

III. Data

OMB Control Number: 0608-0011.

Form Number(s): BE-30 and BE-37.

Type of Review: Regular submission.

Affected Public: Business or other for-profit organizations.

Estimated Number of BE-30 Respondents: 200 annually (50 filed each quarter; 48 reporting mandatory data, and 2 that would file exemption claims or voluntary responses).

Estimated Number of BE-37 Respondents: 120 annually (30 filed each quarter; 28 reporting mandatory data, and 2 that would file an exemption claim or voluntary response).

Estimated Time per Response: For the BE-30, 4 hours is the average for those reporting mandatory data and one hour is the average for those filing an exemption claim or voluntary responses. For the BE-37, 5 hours is the average for those reporting mandatory data and one hour is the average for those filing an exemption claim or voluntary responses. For the BE-30 and BE-37 surveys, hours may vary considerably among respondents because of differences in company size and complexity.

Estimated Total Annual Burden Hours: 1,344 (776 for the BE-30; 568 for the BE-37).

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments that you submit in response to this notice are a matter of public record. We will include or summarize each comment in our request to OMB to approve this Information Collection Request (ICR). Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-14273 Filed 6-27-24; 8:45 am]

BILLING CODE 3510-06-P